DEPARTMENT OF DEFENSE

Office of the Secretary

Revised Non-Foreign Overseas Per Diem Rates

AGENCY: Defense Human Resources Activity, Department of Defense (DoD).

ACTION: Notice of revised per diem rates in non-foreign areas outside the Continental U.S.

SUMMARY: Defense Human Resources Activity publishes this Civilian Personnel Per Diem Bulletin Number 313. Bulletin Number 313 lists current per diem rates prescribed for reimbursement of subsistence expenses while on official Government travel to Alaska, Hawaii, the Commonwealth of Puerto Rico, and the possessions of the United States. The Fiscal Year (FY) 2020 per diem rate review for Puerto Rico resulted in lodging, meal and incidental rate changes in certain locations.

DATES: The updated rates take effect June 1, 2020.

FOR FURTHER INFORMATION CONTACT: Mr. Scott Laws, 571-372-1282.

SUPPLEMENTARY INFORMATION: This document notifies the public of revisions in per diem rates prescribed by the Per Diem, Travel and Transportation Allowance Committee for travel to non-foreign areas outside the continental United States. The FY 2020 per diem rate review for Puerto Rico resulted in lodging, meal and incidental rate changes in certain locations. Bulletin Number 313 is published in the Federal Register to ensure that Government travelers outside the Department of Defense are notified of revisions to the current reimbursement rates.

If you believe the lodging, meal or incidental allowance rate for a locality listed in the following table is insufficient, you may request a rate review for that location. For more information about how to request a review, please see the Defense Travel Management Office's Per Diem Rate Review Frequently Asked Questions (FAQ) page at https://www.defensetravel.dod.mil/site/faqraterev.cfm.

Dated: May 26, 2020.
Aaron T. Siegel,
Alternate OSD Federal Register Liaison Officer, Department of Defense.

State or territory | Locality | Season start | Season end | Lodging | M&IE | Total per diem | Effective date
ALASKA | [OTHER] | 01/01 | 12/31 | 161 | 113 | 274 | 06/01/2019
ALASKA | ADAK | 01/01 | 12/31 | 161 | 117 | 278 | 06/01/2019
ALASKA | ANCHORAGE [INCL NAV RES] | 05/01 | 08/31 | 229 | 125 | 354 | 06/01/2019
ALASKA | ANCHORAGE [INCL NAV RES] | 09/01 | 04/30 | 199 | 125 | 324 | 06/01/2019
ALASKA | BARROW | 05/15 | 09/14 | 320 | 129 | 449 | 06/01/2019
ALASKA | BARROW | 09/15 | 05/14 | 265 | 129 | 394 | 06/01/2019
ALASKA | BARTER ISLAND LRRS | 01/01 | 12/31 | 161 | 113 | 274 | 06/01/2019
ALASKA | BETHEL | 01/01 | 12/31 | 219 | 101 | 320 | 06/01/2019
ALASKA | BETTLES | 01/01 | 12/31 | 161 | 113 | * 274 | 06/01/2019
ALASKA | CAPE LISBURNE LRRS | 01/01 | 12/31 | 161 | 113 | 274 | 06/01/2019
ALASKA | CAPE NEWENHAM LRRS | 01/01 | 12/31 | 161 | 113 | 274 | 06/01/2019
ALASKA | CAPE ROMANZOF LRRS | 01/01 | 12/31 | 161 | 113 | 274 | 06/01/2019
ALASKA | CLEAR AB | 01/01 | 12/31 | 161 | 113 | 274 | 06/01/2019
ALASKA | COLD BAY | 01/01 | 12/31 | 161 | 113 | 274 | 06/01/2019
ALASKA | COLD BAY LRRS | 01/01 | 12/31 | 161 | 113 | 274 | 06/01/2019
ALASKA | COLDFOOT | 01/01 | 12/31 | 161 | 93 | 254 | 06/01/2019
ALASKA | COPPER CENTER | 01/01 | 12/31 | 161 | 115 | 276 | 06/01/2019
ALASKA | CORDOVA | 01/01 | 12/31 | 140 | 106 | 246 | 06/01/2019
ALASKA | CRAIG | 05/01 | 09/30 | 139 | 94 | 233 | 06/01/2019
ALASKA | CRAIG | 10/01 | 04/30 | 109 | 94 | 203 | 06/01/2019
ALASKA | DEADHORSE | 01/01 | 12/31 | 120 | 113 | * 233 | 06/01/2019
ALASKA | DELTA JUNCTION | 01/01 | 12/31 | 161 | 101 | 262 | 06/01/2019
ALASKA | DENALI NATIONAL PARK | 05/17 | 09/17 | 189 | 98 | 287 | 06/01/2019
ALASKA | DENALI NATIONAL PARK | 09/18 | 05/16 | 139 | 98 | 237 | 06/01/2019
ALASKA | DILLINGHAM | 05/01 | 09/30 | 275 | 113 | 388 | 06/01/2019
ALASKA | DILLINGHAM | 10/01 | 04/30 | 230 | 113 | 343 | 06/01/2019
ALASKA | DUTCH HARBOR-UNALASKA | 01/01 | 12/31 | 161 | 129 | 290 | 06/01/2019
ALASKA | EARECKSON AIR STATION | 01/01 | 12/31 | 146 | 74 | 220 | 06/01/2019
ALASKA | EIELSON AFB | 05/16 | 09/15 | 154 | 100 | 254 | 06/01/2019
ALASKA | EIELSON AFB | 09/16 | 05/15 | 75 | 100 | 175 | 06/01/2019
ALASKA | ELFIN COVE | 01/01 | 12/31 | 161 | 113 | 274 | 06/01/2019
ALASKA | ELMENDORF AFB | 05/01 | 08/31 | 229 | 125 | 354 | 06/01/2019
ALASKA | ELMENDORF AFB | 09/01 | 04/30 | 199 | 125 | 324 | 06/01/2019
ALASKA | FAIRBANKS | 05/16 | 09/15 | 154 | 100 | 254 | 06/01/2019
ALASKA | FAIRBANKS | 09/16 | 05/15 | 75 | 100 | 175 | 06/01/2019
ALASKA | FORT YUKON LRRS | 01/01 | 12/31 | 161 | 113 | 274 | 06/01/2019
ALASKA | FT. GREELY | 01/01 | 12/31 | 161 | 101 | 262 | 06/01/2019
ALASKA | FT. RICHARDSON | 05/01 | 08/31 | 229 | 125 | 354 | 06/01/2019
ALASKA | FT. RICHARDSON | 09/01 | 04/30 | 199 | 125 | 324 | 06/01/2019
ALASKA | FT. WAINWRIGHT | 05/16 | 09/15 | 154 | 100 | 254 | 06/01/2019
ALASKA | FT. WAINWRIGHT | 09/16 | 05/15 | 75 | 100 | 175 | 06/01/2019
ALASKA | GAMBELL | 01/01 | 12/31 | 161 | 113 | 274 | 06/01/2019
ALASKA | GLENNALLEN | 01/01 | 12/31 | 161 | 115 | 276 | 06/01/2019
ALASKA | HAINES | 01/01 | 12/31 | 107 | 113 | 220 | 06/01/2019
ALASKA | HEALY | 06/01 | 08/31 | 189 | 98 | 287 | 06/01/2019
ALASKA | HEALY | 09/01 | 05/31 | 139 | 98 | 237 | 06/01/2019
ALASKA | HOMER | 05/01 | 09/30 | 189 | 124 | 313 | 06/01/2019
ALASKA | HOMER | 10/01 | 04/30 | 129 | 124 | 253 | 06/01/2019
ALASKA | JB ELMENDORF-RICHARDSON | 05/01 | 08/31 | 229 | 125 | 354 | 06/01/2019
ALASKA | JB ELMENDORF-RICHARDSON | 09/01 | 04/30 | 199 | 125 | 324 | 06/01/2019
ALASKA | JUNEAU | 04/16 | 09/15 | 189 | 118 | 307 | 06/01/2019
ALASKA | JUNEAU | 09/16 | 04/15 | 169 | 118 | 287 | 06/01/2019
ALASKA | KAKTOVIK | 01/01 | 12/31 | 161 | 129 | * 290 | 06/01/2019
ALASKA | KAVIK CAMP | 01/01 | 12/31 | 161 | 113 | * 274 | 06/01/2019
ALASKA | KENAI-SOLDOTNA | 05/01 | 09/30 | 159 | 113 | 272 | 06/01/2019
ALASKA | KENAI-SOLDOTNA | 10/01 | 04/30 | 89 | 113 | 202 | 06/01/2019
ALASKA | KENNICOTT | 01/01 | 12/31 | 161 | 85 | 246 | 06/01/2019
ALASKA | KETCHIKAN | 04/01 | 10/01 | 250 | 118 | 368 | 06/01/2019
ALASKA | KETCHIKAN | 10/02 | 03/31 | 160 | 118 | 278 | 06/01/2019
ALASKA | KING SALMON | 01/01 | 12/31 | 161 | 89 | 250 | 06/01/2019
ALASKA | KING SALMON LRRS | 01/01 | 12/31 | 161 | 113 | 274 | 06/01/2019
ALASKA | KLAWOCK | 05/01 | 09/30 | 139 | 94 | 233 | 06/01/2019
ALASKA | KLAWOCK | 10/01 | 04/30 | 109 | 94 | 203 | 06/01/2019
ALASKA | KODIAK | 05/01 | 09/30 | 194 | 109 | 303 | 06/01/2019
ALASKA | KODIAK | 10/01 | 04/30 | 136 | 109 | 245 | 06/01/2019
ALASKA | KOTZEBUE | 01/01 | 12/31 | 161 | 121 | 282 | 06/01/2019
ALASKA | KULIS AGS | 05/01 | 08/31 | 229 | 125 | 354 | 06/01/2019
ALASKA | KULIS AGS | 09/01 | 04/30 | 199 | 125 | 324 | 06/01/2019
ALASKA | MCCARTHY | 01/01 | 12/31 | 161 | 85 | 246 | 06/01/2019
ALASKA | MCGRATH | 01/01 | 12/31 | 161 | 113 | * 274 | 06/01/2019
ALASKA | MURPHY DOME | 05/16 | 09/15 | 154 | 100 | 254 | 06/01/2019
ALASKA | MURPHY DOME | 09/16 | 05/15 | 75 | 100 | 175 | 06/01/2019
ALASKA | NOME | 01/01 | 12/31 | 185 | 118 | 303 | 06/01/2019
ALASKA | NOSC ANCHORAGE | 05/01 | 08/31 | 229 | 125 | 354 | 06/01/2019
ALASKA | NOSC ANCHORAGE | 09/01 | 04/30 | 199 | 125 | 324 | 06/01/2019
ALASKA | NUIQSUT | 01/01 | 12/31 | 161 | 113 | * 274 | 06/01/2019
ALASKA | OLIKTOK LRRS | 01/01 | 12/31 | 161 | 113 | 274 | 06/01/2019
ALASKA | PALMER | 01/01 | 12/31 | 155 | 117 | 272 | 06/01/2019
ALASKA | PETERSBURG | 01/01 | 12/31 | 130 | 108 | 238 | 06/01/2019
ALASKA | POINT BARROW LRRS | 01/01 | 12/31 | 161 | 113 | 274 | 06/01/2019
ALASKA | POINT HOPE | 01/01 | 12/31 | 161 | 113 | * 274 | 06/01/2019
ALASKA | POINT LONELY LRRS | 01/01 | 12/31 | 161 | 113 | 274 | 06/01/2019
ALASKA | PORT ALEXANDER | 01/01 | 12/31 | 161 | 113 | * 274 | 06/01/2019
ALASKA | PORT ALSWORTH | 01/01 | 12/31 | 161 | 113 | 274 | 06/01/2019
ALASKA | PRUDHOE BAY | 01/01 | 12/31 | 120 | 113 | * 233 | 06/01/2019
ALASKA | SELDOVIA | 05/01 | 09/30 | 189 | 124 | 313 | 06/01/2019
ALASKA | SELDOVIA | 10/01 | 04/30 | 129 | 124 | 253 | 06/01/2019
ALASKA | SEWARD | 04/02 | 09/30 | 309 | 146 | 455 | 06/01/2019
ALASKA | SEWARD | 10/01 | 04/01 | 80 | 146 | 226 | 06/01/2019
ALASKA | SITKA-MT. EDGECUMBE | 04/01 | 09/30 | 245 | 116 | 361 | 06/01/2019
ALASKA | SITKA-MT. EDGECUMBE | 10/01 | 03/31 | 200 | 116 | 316 | 06/01/2019
ALASKA | SKAGWAY | 04/01 | 10/01 | 250 | 118 | 368 | 06/01/2019
ALASKA | SKAGWAY | 10/02 | 03/31 | 160 | 118 | 278 | 06/01/2019
ALASKA | SLANA | 01/01 | 12/31 | 161 | 113 | 274 | 06/01/2019
ALASKA | SPARREVOHN LRRS | 01/01 | 12/31 | 161 | 113 | 274 | 06/01/2019
ALASKA | SPRUCE CAPE | 05/01 | 09/30 | 194 | 109 | 303 | 06/01/2019
ALASKA | SPRUCE CAPE | 10/01 | 04/30 | 136 | 109 | 245 | 06/01/2019
ALASKA | ST. GEORGE | 01/01 | 12/31 | 161 | 113 | 274 | 06/01/2019
ALASKA | TALKEETNA | 01/01 | 12/31 | 161 | 120 | 281 | 06/01/2019
ALASKA | TANANA | 01/01 | 12/31 | 185 | 118 | 303 | 06/01/2019
ALASKA | TATALINA LRRS | 01/01 | 12/31 | 161 | 113 | 274 | 06/01/2019
ALASKA | TIN CITY LRRS | 01/01 | 12/31 | 161 | 113 | 274 | 06/01/2019
ALASKA | TOK | 04/01 | 09/30 | 105 | 113 | 218 | 06/01/2019
ALASKA | TOK | 10/01 | 03/31 | 99 | 113 | 212 | 06/01/2019
ALASKA | VALDEZ | 05/16 | 09/15 | 197 | 110 | 307 | 06/01/2019
ALASKA | VALDEZ | 09/16 | 05/15 | 179 | 110 | 289 | 06/01/2019
ALASKA | WAINWRIGHT | 01/01 | 12/31 | 275 | 77 | 352 | 06/01/2019
ALASKA | WAKE ISLAND DIVERT AIRFIELD | 01/01 | 12/31 | 161 | 113 | 274 | 06/01/2019
ALASKA | WASILLA | 05/01 | 09/29 | 162 | 94 | 256 | 06/01/2019
ALASKA | WASILLA | 09/30 | 04/30 | 98 | 94 | 192 | 06/01/2019
ALASKA | WRANGELL | 04/01 | 10/01 | 250 | 118 | 368 | 06/01/2019
ALASKA | WRANGELL | 10/02 | 03/31 | 160 | 118 | 278 | 06/01/2019
ALASKA | YAKUTAT | 01/01 | 12/31 | 150 | 111 | 261 | 06/01/2019
AMERICAN SAMOA | AMERICAN SAMOA | 01/01 | 12/31 | 139 | 86 | 225 | 07/01/2019
AMERICAN SAMOA | PAGO PAGO | 01/01 | 12/31 | 139 | 86 | 225 | 07/01/2019
GUAM | GUAM (INCL ALL MIL INSTAL) | 01/01 | 12/31 | 159 | 96 | 255 | 09/01/2019
GUAM | JOINT REGION MARIANAS (ANDERSEN) | 01/01 | 12/31 | 159 | 96 | 255 | 09/01/2019
GUAM | JOINT REGION MARIANAS (NAVAL BASE) | 01/01 | 12/31 | 159 | 96 | 255 | 09/01/2019
GUAM | TAMUNING | 01/01 | 12/31 | 159 | 96 | 255 | 09/01/2019
HAWAII | [OTHER] | 01/01 | 12/31 | 218 | 149 | 367 | 07/01/2019
HAWAII | CAMP H M SMITH | 01/01 | 12/31 | 177 | 149 | 326 | 07/01/2019
HAWAII | EASTPAC NAVAL COMP TELE AREA | 01/01 | 12/31 | 177 | 149 | 326 | 07/01/2019
HAWAII | FT. DERUSSEY | 01/01 | 12/31 | 177 | 149 | 326 | 07/01/2019
HAWAII | FT. SHAFTER | 01/01 | 12/31 | 177 | 149 | 326 | 07/01/2019
HAWAII | HICKAM AFB | 01/01 | 12/31 | 177 | 149 | 326 | 07/01/2019
HAWAII | HILO | 01/01 | 12/31 | 199 | 120 | 319 | 07/01/2019
HAWAII | HONOLULU | 01/01 | 12/31 | 177 | 149 | 326 | 07/01/2019
HAWAII | ISLE OF HAWAII: HILO | 01/01 | 12/31 | 199 | 120 | 319 | 07/01/2019
HAWAII | ISLE OF HAWAII: OTHER | 01/01 | 12/31 | 218 | 156 | 374 | 07/01/2019
HAWAII | ISLE OF KAUAI | 01/01 | 12/31 | 325 | 141 | 466 | 07/01/2019
HAWAII | ISLE OF MAUI | 01/01 | 12/31 | 304 | 150 | 454 | 07/01/2019
HAWAII | ISLE OF OAHU | 01/01 | 12/31 | 177 | 149 | 326 | 07/01/2019
HAWAII | JB PEARL HARBOR-HICKAM | 01/01 | 12/31 | 177 | 149 | 326 | 07/01/2019
HAWAII | KAPOLEI | 01/01 | 12/31 | 177 | 149 | 326 | 07/01/2019
HAWAII | KEKAHA PACIFIC MISSILE RANGE FAC | 01/01 | 12/31 | 325 | 141 | 466 | 07/01/2019
HAWAII | KILAUEA MILITARY CAMP | 01/01 | 12/31 | 199 | 120 | 319 | 07/01/2019
HAWAII | LANAI | 01/01 | 12/31 | 218 | 134 | 352 | 07/01/2019
HAWAII | LIHUE | 01/01 | 12/31 | 325 | 141 | 466 | 07/01/2019
HAWAII | LUALUALEI NAVAL MAGAZINE | 01/01 | 12/31 | 177 | 149 | 326 | 07/01/2019
HAWAII | MCB HAWAII | 01/01 | 12/31 | 177 | 149 | 326 | 07/01/2019
HAWAII | MOLOKAI | 01/01 | 12/31 | 218 | 106 | 324 | 07/01/2019
HAWAII | NOSC PEARL HARBOR | 01/01 | 12/31 | 177 | 149 | 326 | 07/01/2019
HAWAII | PEARL HARBOR | 01/01 | 12/31 | 177 | 149 | 326 | 07/01/2019
HAWAII | PMRF BARKING SANDS | 01/01 | 12/31 | 325 | 141 | 466 | 07/01/2019
HAWAII | SCHOFIELD BARRACKS | 01/01 | 12/31 | 177 | 149 | 326 | 07/01/2019
HAWAII | TRIPLER ARMY MEDICAL CENTER | 01/01 | 12/31 | 177 | 149 | 326 | 07/01/2019
HAWAII | WAHIAWA NCTAMS PAC | 01/01 | 12/31 | 177 | 149 | 326 | 07/01/2019
HAWAII | WHEELER ARMY AIRFIELD | 01/01 | 12/31 | 177 | 149 | 326 | 07/01/2019
MIDWAY ISLANDS | MIDWAY ISLANDS | 01/01 | 12/31 | 125 | 81 | 206 | 07/01/2019
NORTHERN MARIANA ISLANDS | [OTHER] | 01/01 | 12/31 | 69 | 113 | 182 | 09/01/2019
NORTHERN MARIANA ISLANDS | ROTA | 01/01 | 12/31 | 130 | 114 | 244 | 09/01/2019
NORTHERN MARIANA ISLANDS | SAIPAN | 01/01 | 12/31 | 161 | 113 | 274 | 09/01/2019
NORTHERN MARIANA ISLANDS | TINIAN | 01/01 | 12/31 | 69 | 93 | 162 | 09/01/2019
PUERTO RICO | [OTHER] | 01/01 | 12/31 | 154 | 100 | 254 | 06/01/2020
PUERTO RICO | AGUADILLA | 01/01 | 12/31 | 149 | 90 | 239 | 06/01/2020
PUERTO RICO | BAYAMON | 12/01 | 05/31 | 195 | 115 | 310 | 06/01/2020
PUERTO RICO | BAYAMON | 06/01 | 11/30 | 167 | 115 | 282 | 06/01/2020
PUERTO RICO | CAROLINA | 12/01 | 05/31 | 195 | 115 | 310 | 06/01/2020
PUERTO RICO | CAROLINA | 06/01 | 11/30 | 167 | 115 | 282 | 06/01/2020
PUERTO RICO | CEIBA | 01/01 | 12/31 | 159 | 110 | 269 | 06/01/2020
PUERTO RICO | CULEBRA | 01/01 | 12/31 | 159 | 105 | 264 | 06/01/2020
PUERTO RICO | FAJARDO [INCL ROOSEVELT RDS NAVSTAT] | 01/01 | 12/31 | 159 | 110 | 269 | 06/01/2020
PUERTO RICO | FT. BUCHANAN [INCL GSA SVC CTR, GUAYNABO] | 12/01 | 05/31 | 195 | 115 | 310 | 06/01/2020
PUERTO RICO | FT. BUCHANAN [INCL GSA SVC CTR, GUAYNABO] | 06/01 | 11/30 | 167 | 115 | 282 | 06/01/2020
PUERTO RICO | HUMACAO | 01/01 | 12/31 | 159 | 110 | 269 | 06/01/2020
PUERTO RICO | LUIS MUNOZ MARIN IAP AGS | 12/01 | 05/31 | 195 | 115 | 310 | 06/01/2020
PUERTO RICO | LUIS MUNOZ MARIN IAP AGS | 06/01 | 11/30 | 167 | 115 | 282 | 06/01/2020
PUERTO RICO | LUQUILLO | 01/01 | 12/31 | 159 | 110 | 269 | 06/01/2020
PUERTO RICO | MAYAGUEZ | 01/01 | 12/31 | 109 | 94 | 203 | 06/01/2020
PUERTO RICO | PONCE | 01/01 | 12/31 | 149 | 130 | 279 | 06/01/2020
PUERTO RICO | RIO GRANDE | 01/01 | 12/31 | 154 | 85 | 239 | 06/01/2020
PUERTO RICO | SABANA SECA [INCL ALL MILITARY] | 12/01 | 05/31 | 195 | 115 | 310 | 06/01/2020
PUERTO RICO | SABANA SECA [INCL ALL MILITARY] | 06/01 | 11/30 | 167 | 115 | 282 | 06/01/2020
PUERTO RICO | SAN JUAN & NAV RES STA | 12/01 | 05/31 | 195 | 115 | 310 | 06/01/2020
PUERTO RICO | SAN JUAN & NAV RES STA | 06/01 | 11/30 | 167 | 115 | 282 | 06/01/2020
PUERTO RICO | VIEQUES | 01/01 | 12/31 | 159 | 94 | 253 | 06/01/2020
VIRGIN ISLANDS (U.S.) | ST. CROIX | 12/15 | 04/14 | 299 | 120 | 419 | 04/01/2020
VIRGIN ISLANDS (U.S.) | ST. CROIX | 04/15 | 12/14 | 247 | 120 | 367 | 04/01/2020
VIRGIN ISLANDS (U.S.) | ST. JOHN | 12/04 | 04/30 | 230 | 123 | 353 | 04/01/2020
VIRGIN ISLANDS (U.S.) | ST. JOHN | 05/01 | 12/03 | 170 | 123 | 293 | 04/01/2020
VIRGIN ISLANDS (U.S.) | ST. THOMAS | 04/15 | 12/15 | 249 | 118 | 367 | 04/01/2020
VIRGIN ISLANDS (U.S.) | ST. THOMAS | 12/16 | 04/14 | 339 | 118 | 457 | 04/01/2020
WAKE ISLAND | WAKE ISLAND | 01/01 | 12/31 | 129 | 70 | 199 | 09/01/2019
* Where meals are included in the lodging rate, a traveler is only allowed a meal rate on the first and last day of travel.

[FR Doc. 2020-11604 Filed 5-28-20; 8:45 am]

BILLING CODE 5001-06-P